DEPARTMENT OF COMMERCE

Foreign-Trade Zones Board

[B-78-2018]

Foreign-Trade Zone (FTZ) 99—Wilmington, Delaware, Authorization of Production Activity, Bloom Energy Corporation (Commercial Fuel Cells and Related Subassemblies), Newark, Delaware

On December 4, 2018, the Delaware Department of State, grantee of FTZ 99, submitted a notification of proposed production activity to the FTZ Board on behalf of Bloom Energy Corporation, within Subzone 99I, in Newark, Delaware.

The notification was processed in accordance with the regulations of the FTZ Board (15 CFR part 400), including notice in the Federal Register inviting public comment (83 FR 65142, December 19, 2018). On May 13, 2019, the applicant was notified of the FTZ Board's decision that no further review of the activity is warranted at this time. The production activity described in the notification was authorized, subject to the FTZ Act and the FTZ Board's regulations, including Section 400.14, and further subject to a restriction requiring that textile paper filters be admitted to the subzone in privileged foreign status (19 CFR 146.41).

Dated: May 13, 2019.
Andrew McGilvray,
Executive Secretary.

[FR Doc. 2019-10279 Filed 5-16-19; 8:45 am]

BILLING CODE 3510-DS-P